DEPARTMENT OF THE INTERIOR

Bureau of Land Management

[LLORP00000.L12200000.AL0000.15XL1109AF; HAG 16-0043]

Establishment and Availability of Final Boundary for Crooked Wild and Scenic River, Segment B, Prineville District, Crook County, Oregon

AGENCY: Bureau of Land Management, Interior.

ACTION: Notice of availability.

SUMMARY: In accordance with Section 3(b) of the Wild and Scenic Rivers Act, the Bureau of Land Management, Washington Office, is providing notice of the establishment and availability of the final boundary of the Crooked National Wild and Scenic River, Segment B, and of the transmittal of the boundary package to Congress.

FOR FURTHER INFORMATION CONTACT: Carol Benkosky, District Manager, BLM Prineville District Office, 3050 NE. Third Street, Prineville, Oregon 97754, 541-416-6700. Persons who use a telecommunications device for the deaf (TDD) may call the Federal Information Relay Service (FIRS) at 1(800) 877-8339 to contact the above individuals during normal business hours. The FIRS is available 24 hours a day, 7 days a week, to leave a message or question with the above individuals. You will receive a reply during normal business hours.

SUPPLEMENTARY INFORMATION: The Crooked Wild and Scenic River, Segment B boundary is available for public inspection at the following offices: Bureau of Land Management, National Landscape Conservation System, 20 M Street SE., Washington, DC 20036, 202-912-7624; Bureau of Land Management, Oregon State Office, 1220 SW. 3rd Avenue, Portland, OR 97204, 503-808-6001; Bureau of Land Management, Prineville District Office, 3050 NE. Third Street, Prineville, Oregon 97754, 541-416-6700.

The Omnibus Oregon Wild and Scenic Rivers Act of 1988 (Pub. L. 100-557) of October 28, 1988, designated the Crooked River, Segment B, Oregon, as a National Wild and Scenic River, to be administered by the Secretary of the Interior. Segment B was described as: “the 8-mile segment from Bowman Dam to dry Creek as a recreational river.”

A proposed boundary for the Crooked Wild and Scenic River, Segment B, was published in the Federal Register on Monday, December 11, 1989 (54 FR 50825). The proposed administrative boundary was also transmitted to Congress on January 2, 1990. The boundary began at the Bowman Dam and extended downstream for 8 miles.

The Crooked River Collaborative Water Security and Jobs Act of 2014 (Pub. L. 113-244) amended the proposed boundary for the Crooked Wild and Scenic River, Segment B, by describing it as: “The 7.75-mile segment from a point ¼-mile downstream from the center crest of the Bowman Dam, as a recreational river.” As specified by law, the final boundary becomes effective 90 days after transmittal to Congress, which occurred on October 14, 2015.

Jerome E. Perez,
State Director, Oregon/Washington.

[FR Doc. 2016-04307 Filed 2-26-16; 8:45 am]

BILLING CODE 4310-33-P